DEPARTMENT OF JUSTICE

Antitrust Division

Notice Pursuant to the National Cooperative Research and Production Act of 1993—Customer Experience Hub

Notice is hereby given that, on April 1, 2025, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances. Specifically, Ammonoosuc Community Health Services, Inc., Littleton, NH; Merative US LP, Ann Arbor, MI; Polished Technologies LLC, Chevy Chase, MD; and Washington State University Health Sciences, Spokane, WA have been added as parties to this venture.

Also, Ruth Health, Bronx, NY; Spring Discovery, Inc., San Carlos, CA; and The Innovation Foundation at Oklahoma State University, Inc., Stillwater, OK have withdrawn as parties to this venture.

No other changes have been made in either the membership or planned activity of the group research project. Membership in this group research project remains open, and the CX Hub intends to file additional written notifications disclosing all changes in membership.

On January 11, 2024, the CX Hub filed its original notification pursuant to section 6(a) of the Act. The Department of Justice published a notice in the Federal Register pursuant to section 6(b) of the Act on April 16, 2024 (89 FR 26929).

The last notification was filed with the Department on January 3, 2025. A notice was published in the Federal Register pursuant to section 6(b) of the Act on February 4, 2025 (90 FR 8942).

Suzanne Morris,
Deputy Director Civil Enforcement Operations, Antitrust Division.

[FR Doc. 2025-10816 Filed 6-12-25; 8:45 am]

BILLING CODE P